DEPARTMENT OF TRANSPORTATION

Federal Highway Administration

Environmental Impact Statement: Queens County, NY

AGENCY: Federal Highway Administration (FHWA), United States Department of Transportation (USDOT).

ACTION: Notice of Intent.

SUMMARY: The FHWA is issuing this notice to advise the public that an Environmental Impact Statement (EIS) will be prepared for improvements to a section of the Long Island Expressway (I-495), approximately 1,800 meters (5900 ft) in length, in the vicinity of its interchanges with the Van Wyck Expressway (I-678) and Grand Central Parkway (Route 907-M) in Queens County, New York. The EIS will study and document proposed roadway and bridge improvements, including the possible rehabilitation or replacement of six vehicular bridges and four pedestrian bridges. These changes are being considered to ensure structural integrity and extend the service life of existing bridges, and to improve traffic operations, and safety.

FOR FURTHER INFORMATION CONTACT:

Douglas Currey, Regional Director, New York State Department of Transportation, Region 11, Hunters Point Plaza, 47-40 21st Street, Long Island City, New York 11101 Telephone: (718) 482-4526, or

Robert Arnold, Division Administrator, Federal Highway Administration, New York Division, Leo W. O'Brien Federal Building, Room 719, Clinton Avenue and North Pearl Street, Albany, New York 12207, Telephone (518) 431-4125.

SUPPLEMENTARY INFORMATION: Pursuant to Title 23, Code of Federal Regulations, Part 771, Environmental Impact and Related Procedures, the FHWA, in cooperation with the New York State Department of Transportation (NYSDOT), will prepare an EIS in accordance with the National Environmental Policy Act (NEPA), on alternatives and modifications for the Long Island Expressway (LIE), the Van Wyck Expressway (VWE), and the Grand Central Parkway (GCP), in the area generally bounded by Main Street to the east, 108th Street to the west, and the connecting ramps and collector-distributor roads of the LIE interchange with the VWE and the GCP to the north and south.

The EIS will assess the potential impacts and costs associated with a range of build alternatives. In addition, it will consider a No Build Alternative that will serve as the baseline against which the other alternatives will be measured. The No Build Alternative includes only continued maintenance of the involved structures and roadways. It would not change their physical configuration or correct design deficiencies.

At a minimum, the current project will examine three build alternatives that were identified in the Expanded Project Proposal (EOO). Build Alternative 1 would correct deficiencies on the existing bridges in the study area that would provide small changes to the physical configuration of the roadway. The alternative would not mitigate the problems related to traffic operations and safety. Build Alternatives 2 and 3 propose significant roadway modifications, including new and/or relocated ramp connections at the LIE-GCP interchange, improvements at the intersection of College Point Boulevard and the LIE service roads, and rehabilitation of existing bridges. Both Alternatives 2 and 3 will address the traffic operations and safety problems.

To ensure the full range of issues related to the proposed action are identified and addressed, a series of scoping activities will be conducted. specific activities will include coordination with involved agencies; briefings and elected officials, community boards, and community groups. A Public Scoping Meeting is scheduled for Wednesday, May 5, 2004, at 6:30 p.m. at the Forest Hills High School Auditorium, 67-01 110 Street, Forest Hills, NY 11375. Information about the Scoping Meeting, including location, and agenda, will be provided through media releases and another notifications to interested groups. The meeting will provide the public with information about the project and an opportunity to assist in formulating the scope of the environmental studies to be conducted in the DEIS. Comments are invited from all interested parties. Oral and written comments on the project and the scope of the DEIS will be accepted at the meeting; comments can also be submited in writing by mail or e-mail up to 30 days after the date of the scoping meeting. All written comments received by that date will be included in the official record of the meeting. Comments or questions concerning this proposed action and the DEIS should be directed to NYSDOT or FHWA at the addresses above.

Letters describing the proposed action and soliciting comments will be sent to appropriate Federal, State, local agencies and to private organizations and citizens who have previously expressed interest in this proposal. A series of public information meetings will be held in Queens County, New York between July 2004 and April 2006. In addition, a Public Hearing will be held after publication of the DEIS to obtain comments on the document. Public notice will be given of the time and place of the DEIS Public Housing.

(Catalog of Federal Domestic Assistance Program Number 20.205, Highway Research, Planning and Construction. The regulations implementing Executive Order 12372 regarding intergovernmental consultation of Federal programs and activities, apply to this program.)

Authority: 23 U.S.C.. 315; 23 CFR 771.123.

Robert Arnold,
Division Administrator, Federal Highway Administration, Albany, New York.

[FR Doc. 04-5622 Filed 3-11-04; 8:45 am]

BILLING CODE 4910-22-M